DEPARTMENT OF ENERGY

Federal Energy Regulatory Commission

[Project No. 1971-135]

Idaho Power Company; Notice of Availability of Environmental Assessment

In accordance with the National Environmental Policy Act of 1969 and the Federal Energy Regulatory Commission's (Commission or FERC) regulations, 18 CFR part 380, Commission staff reviewed Idaho Power Company's application for a non-capacity amendment of license of the Hells Canyon Project No. 1971 and have prepared an Environmental Assessment (EA) for the proposed amendment at the Oxbow Development of the project. The licensee proposes to perform maintenance of the generating units, extend the existing erection deck, and provide an area of additional parking. The Hells Canyon Project is located on the Snake River in Adams and Washington counties, Idaho, and in Baker, Wallowa, and Malheur counties, Oregon. Federal lands administered by the U.S. Forest Service and the Bureau of Land Management (Payette and Wallowa-Whitman National Forests and Hells Canyon National Recreational Area) are included within the project boundary.

The EA contains Commission staff's analysis of the potential environmental effects of the proposed maintenance of the generating units and associated activities at the Oxbow Development, alternatives to the proposed action, and concludes that the proposed amendment, with appropriate environmental protective measures, would not constitute a major federal action that would significantly affect the quality of the human environment.

The EA may be viewed on the Commission's website at http://www.ferc.gov using the “elibrary” link. Enter the docket number (P-1971) in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

For further information, contact Jeremy Jessup at 202-502-6779 or Jeremy.Jessup@ferc.gov.

Dated: August 29, 2024.
Debbie-Anne A. Reese,
Acting Secretary.

[FR Doc. 2024-19971 Filed 9-4-24; 8:45 am]

BILLING CODE 6717-01-P